FEDERAL COMMUNICATIONS COMMISSION

[DA 04-2596]

Audit of Operational Status of Licenses in the Paging and Radiotelephone Service and 929-930 MHz Band on Exclusive Channels

AGENCY: Federal Communications Commission.

ACTION: Notice; correction.

SUMMARY: The Federal Communications Commission (Commission) published a document in the Federal Register on September 8, 2004, announcing an audit of the operational status of stations authorized in the paging and radiotelephone service (part 22) and stations authorized on 929-930 MHz private carrier paging exclusive channels (part 90) which encourages licensees to verify the mailing address for each license held and to register with the Commission Registration System (CORES).

FOR FURTHER INFORMATION CONTACT: Denise D. Walter, Mobility Division, at 202-418-0620.

Correction

1. In the Federal Register of September 8, 2004, in FR Doc. 04-20361, on page 54290, in the third column, correct the “proceeding title” to read: Audit of Operational Status of Licenses in the Paging and Radiotelephone Service and 929-930 MHz Band on Exclusive Channels

2. In the Federal Register of September 8, 2004, in FR Doc. 04-20361, on page 54290, in the first paragraph, correct the “Summary” text to read:

SUMMARY: In this document the Wireless Telecommunications Bureau (Bureau) announces a license audit of the operational status of all site-specific licenses operating under part 22, Paging and Radiotelephone Service, with a “CD” radio service code and all site-specific licenses operating in the 929-930 MHz band on exclusive channels, part 90, with a “GS” radio service code. Licensees are asked to verify their mailing address on record in the Universal Licensing System for each license held and, where appropriate, update the information. Licensees are also asked to verify they have registered with the Commission Registration System (CORES) and associated their FCC Registration Number (FRN) with each license held. The audit is scheduled to begin the week of September 27, 2004. Licensees will be required to respond to the audit electronically, via the internet, within forty-five (45) calendar days from the date on the audit letter.

Dated: September 10, 2004.
Linda Chang,
Associate Chief, Mobility Division.

[FR Doc. 04-20899 Filed 9-15-04; 8:45 am]

BILLING CODE 6712-01-P